NATIONAL SCIENCE FOUNDATION

Notice of Permit Applications Received Under the Antarctic Conservation Act of 1978 (Pub. L. 95-541)

AGENCY: National Science Foundation.

ACTION: Notice of permit applications received under the Antarctic Conservation Act of 1978, Pub. L. 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by November 6, 2003. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

[Permit Application No. 2004-015]

1. Applicant

Richard R. Veit, Biology Department, The College of Staten Island, 2800 Victory Boulevard, Staten Island, NY 10314.

Activity for Which Permit is Requested: Take. The applicant proposes capture and release up to 5 individuals each of Cape Petrel, Wilson's Storm Petrel, Black-bellied Storm Petrel, Brown Skua, Kelp Gull, and Antarctic Tern. The applicant plans to assess the breeding condition of the birds, and to determine diet, based on regurgitations and fecal samples about the next.

Location: Seal Island, Antarctic Peninsula.

Dates: November 23, 2003 to December 26, 2003.

[Permit Application No. 2004-016]

2. Applicant

Terry J. Wilson, Department of Geological Sciences, Ohio State University, 155 S. Oval Mall, Columbus, OH 43210.

Activity for Which Permit is Requested: Enter Antarctic Specially Protected Areas. The applicant proposes to enter Cape Crozier (ASPA #124) and Beaufort Island (ASPA #105) for the purpose of visiting the previously installed GPS monuments that were deployed to detect motion of the bedrock due to tectonism or post-glacial rebound. GPS receivers will be installed then later removed and local GPS surveys will be conducted in an area within approximately 50 meters of the monument.

Location: Cape Crozier, Ross Island (ASPA #124), and Beaufort Island, Ross Sea (ASPA #105).

Dates: November 03, 2003 to January 31, 2007.

Nadene G. Kennedy,
Permit Officer, Office of Polar Programs.

[FR Doc. 03-25462 Filed 10-7-03; 8:45 am]

BILLING CODE 7555-01-M